DEPARTMENT OF HEALTH AND HUMAN SERVICES

Centers for Medicare & Medicaid Services

[CMS-15357-CN2]

RIN 0938-AO26

Medicare Program; Hospice Wage Index for Fiscal Year 2007; Correction

AGENCY: Centers for Medicare & Medicaid Services (CMS), HHS.

ACTION: Correction notice.

SUMMARY: This document corrects a technical error that appeared in the wage index table in the September 1, 2006 Federal Register, entitled “Hospice Wage Index for Fiscal Year 2007.”

DATES: Effective Date: This correction notice is effective October 1, 2006.

FOR FURTHER INFORMATION CONTACT: Terri Deutsch, (410) 786-9462.

SUPPLEMENTARY INFORMATION:

I. Background

In FR Doc. 06-7293, of September 1, 2006 (71 FR 52080) entitled, “Hospice Wage Index for Fiscal Year 2007,” there were errors that we identified and corrected in a correction notice published October 3, 2006 (71 FR 58415). Based on further review of the September 1, 2006 notice, we are correcting an additional typographical error in section I.B of this notice. Accordingly, the correction is effective retroactive to October 1, 2006, the effective date of the September 1, 2006 notice.

A. Summary of Errors

In the September 1, 2006 notice, on page 52102, we published an Addendum that list the updated urban and rural wage index values for hospices utilizing the Core-Based Statistical Areas (CBSA) designations. To ensure that hospice providers were able to identify their current wage index, the table contains the CBSA codes, CBSA county name, and CBSA wage index. However, we made a typographical error when we entered the wage index value for Kalamazoo-Portage, MI.

This correction notice is consistent with the published hospice wage index values used to make payment as of October 1, 2006. In section I.B. of this notice, we are correcting this error.

B. Correction of Error

In the September 1, 2006, Federal Register notice (71 FR 52080) on page 52102, in the third column, in line 5, for CBSA code 28020, the wage index value “1.0140” is corrected to read “1.1040.”

C. Waiver of Proposed Rulemaking and Delay in Effective Date

We ordinarily publish a notice of proposed rulemaking in the Federal Register to provide a period for public comment before the provisions of a rule take effect in accordance with section 553(b) of the Administrative Procedure Act (APA) (5 U.S.C. section 553(b)). However, we can waive this notice and comment procedure if the Secretary finds that the notice and comment process is impracticable, unnecessary, or contrary to the public interest, and incorporates a statement of the finding and the reasons therefore in the notice.

The revision contained in this document merely corrects a typographical error in the addendum for Table A. This correction is necessary to ensure that the notice accurately reflects the correct hospice wage index value. Since it is not substantive, but merely technical, we find that public comments on this revision are unnecessary. Therefore, we find good cause to waive notice and comment procedures.

In addition, the Administrative Procedure Act (APA) normally requires a 30-day delay in the effective date of a notice. Since this notice simply corrects a technical error to a notice that has previously gone through notice-and-comment rulemaking, we believe good cause also exists under the APA to waive the 30-day delay in the effective date and that a delay in the correction's effective date is also unnecessary.

(Catalog of Federal Domestic Assistance Program No. 93.773, Medicare—Hospital Insurance; and Program No. 93.774, Medicare—Supplementary Medical Insurance Program)

Dated: January 18, 2007.
Ashley Files Flory,
Deputy Executive Secretary to the Department.

[FR Doc. E7-1111 Filed 1-25-07; 8:45 am]

BILLING CODE 4120-01-P